DEPARTMENT OF JUSTICE

Drug Enforcement Administration

[Docket No. DEA-682]

Importer of Controlled Substances Application: United States Pharmacopeial Convention

ACTION: Notice of application.

DATES: Registered bulk manufacturers of the affected basic class(es), and applicants therefore, may file written comments on or objections to the issuance of the proposed registration on or before August 17, 2020. Such persons may also file a written request for a hearing on the application on or before August 17, 2020.

ADDRESSES: Written comments should be sent to: Drug Enforcement Administration, Attention: DEA Federal Register Representative/DPW, 8701 Morrissette Drive, Springfield, Virginia 22152. All requests for a hearing must be sent to: Drug Enforcement Administration, Attn: Administrator, 8701 Morrissette Drive, Springfield, Virginia 22152. All request for a hearing should also be sent to: (1) Drug Enforcement Administration, Attn: Hearing Clerk/OALJ, 8701 Morrissette Drive, Springfield, Virginia 22152; and (2) Drug Enforcement Administration, Attn: DEA Federal Register Representative/DPW, 8701 Morrissette Drive, Springfield, Virginia 22152.

SUPPLEMENTARY INFORMATION: In accordance with 21 CFR 1301.34(a), this is notice that on June 17, 2020, United States Pharmacopeial Convention, 7135 English Muffin Way, Frederick, Maryland 21704, applied to be registered as an importer of the following basic class(es) of a controlled substance:

Controlled substance | Drug code | Schedule
Methcathinone | 1237 | I

The company plans to import the listed controlled substance for distribution of analytical reference standards to its customers for analytical testing of raw materials. No other activities for this drug code are authorized for this registration.

William T. McDermott,
Assistant Administrator.

[FR Doc. 2020-15465 Filed 7-16-20; 8:45 am]

BILLING CODE P